DEPARTMENT OF LABOR

Office of Workers' Compensation Programs

Division of Coal Mine Workers' Compensation; Proposed Extension of Existing Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs is soliciting comments concerning the proposed collection: Report of Changes that May Affect Your Black Lung Benefits (CM-929 and CM-929P). A copy of the proposed information collection request can be obtained by contacting the office listed below in the addresses section of this Notice.

DATES: Written comments must be submitted to the office listed in the addresses section below on or before May 13, 2011.

ADDRESSES: Mr. Vincent Alvarez, U.S. Department of Labor, 200 Constitution Ave., NW., Room S-3201, Washington, DC 20210, telephone (202) 693-0372, fax (202) 693-1447, Email Alvarez.Vincent@dol.gov. Please use only one method of transmission for comments (mail, fax, or Email).

SUPPLEMENTARY INFORMATION:

I. Background

The Federal Mine Safety and Health Act of 1977, as amended, 30 U.S.C. 936, 30 U.S.C. 941 and 20 CFR 725.533(e) authorizes the Division of Coal Mine Workers' Compensation (DCMWC) to pay compensation to coal miner beneficiaries. Once a miner or survivor is found eligible for benefits, the primary beneficiary is requested to report certain changes that may affect benefits. To ensure that there is a review and update of all claims paid from the Black Lung Disability Trust Fund, and from Social Security cases transferred to the Department of Labor under the Black Lung Consolidation of Administrative Responsibilities Act of 2002, and to help the beneficiary comply with the need to report certain changes, the CM-929 is sent to all appropriate primary beneficiaries. The CM-929 is printed by the DCMWC computer system with information specific to each beneficiary, such as name, address, number of dependents on record, state workers' compensation information, and amount of current benefits. The beneficiary reviews the information and certifies that the information is current, or provides updated information. The form includes a warning about potential consequences of failure to report changes. DCMWC uses Information Collection OMB 1240-0020, Forms CM-623 and CM-623S, to monitor a representative payee's use of funds paid on a beneficiary's behalf. This is an annual reporting requirement and, while the information collected on OMB 1240-0028 and 1240-0020 is different, the same payees complete both forms and the same DCMWC claims examiner reviews them. Therefore, DCMWC incorporated the CM-929 into the CM-623 and CM-623S in those cases that appropriately had been sent both forms. This composite form is entitled CM-929P, and allows respondents to verify information to DCMWC once annually instead of twice, as is now required. This information collection is currently approved for use through June 30, 2011.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval for the extension of this currently-approved information collection in order to verify the accuracy of information in the beneficiary's claims file, to identify changes in the beneficiary's status, and to ensure that the amount of compensation being paid the beneficiary is accurate.

Agency: Office of Workers' Compensation Programs.

Type of Review: Extension.

Title: Report of Changes That May Affect Your Black Lung Benefits.

OMB Number: 1240-0028.

Agency Number: CM-929 and CM-929P.

Affected Public: Individuals and not-for-profit institutions.

Form | Time to complete | Frequency of response | Number of respondents | Number of responses | Hours burden
CM-929 | 5-8 min | Annually | 55,000 | 55,000 | 4,858
CM-929P | 6-80 min | Annually | 7,150 | 7,150 | 7,769
Totals | 13 min |  | 62,150 | 62,150 | 12,627

Total Respondents: 62,150.

Total Annual Responses: 62,150.

Average Time per Response: 13 minutes.

Estimated Total Burden Hours: 12,627.

Frequency: Annually.

Total Burden Cost (capital/startup): $0.

Total Burden Cost (operating/maintenance): $439,212.

Comments submitted in response to this notice will be summarized and/or included in the request for Office of Management and Budget approval of the information collection request; they will also become a matter of public record.

Dated: March 7, 2011.
Vincent Alvarez,
Agency Clearance Officer, Office of Workers' Compensation Programs, US Department of Labor.

[FR Doc. 2011-5826 Filed 3-11-11; 8:45 am]

BILLING CODE 4510-CK-P